DEPARTMENT OF THE TREASURY

Customs Service

Customs Trade Symposium 2002

AGENCY: Customs Service, Treasury.

ACTION: Notice of symposium.

SUMMARY: This document announces that the Customs Service will convene a major trade symposium that will feature joint discussions by Customs personnel, members of the trade community, and other public and private sector representatives on international trade security initiatives and the agency's transition to the proposed Department of Homeland Security. Customs Commissioner Robert C. Bonner will be the keynote speaker. Members of the international trade and transportation communities and other interested parties are encouraged to attend, and those attending are requested to register early.

DATES: A reception and pre-registration will be held on Wednesday, November 20, 2002, from 6 p.m. until 8 p.m. The symposium will be held on Thursday, November 21, 2002, from 8:30 a.m. until 6 p.m. and will include a special session on Friday, November 22, 2002, from 8 a.m. until 12 p.m. All registrations must be made on-line and confirmed with payment by November 14th.

ADDRESSES: The meeting will be held in Washington, DC at the Ronald Reagan Building and International Trade Center, at 1300 Pennsylvania Avenue, NW.

FOR FURTHER INFORMATION CONTACT: ACS Client Representatives; Customs Account Managers; Regulatory Audit Trade Liaisons; or the Office of Trade Relations at (202) 927-1440 or at traderelations@customs.treas.gov. To obtain the latest information on the program or to register on-line, visit the Customs Web site at http://www.customs.gov/trade2002.

SUPPLEMENTARY INFORMATION: Customs will be convening a major trade symposium (Customs Trade Symposium 2002) on Thursday, November 21, 2002, from 8:30 a.m. until 6 p.m. and on Friday, November 22, 2002, from 8 a.m. until 12 p.m. at the Ronald Reagan Building and International Trade Center, 1300 Pennsylvania Avenue, NW., Washington, DC. The symposium will feature joint discussions by Customs personnel, members of the trade community, and other public and private sector representatives on international trade security initiatives and the agency's transition to the proposed Department of Homeland Security. Customs Commissioner Robert C. Bonner will be the keynote speaker. Members of the international trade and transportation communities and other interested parties are encouraged to attend.

The cost is $150 per individual and includes all symposium activities. Interested parties are requested to register early. All registrations must be made on-line at the Customs Web site (http://www.customs.gov/trade2002). Registrations will be accepted on a space available basis and must be confirmed with payment by November 14, 2002. The Renaissance Washington DC Hotel, 999 9th Street, NW., has reserved a block of rooms for Wednesday, November 20th through Friday, November 22nd at a rate of US$ 179 per night. Reservations must be confirmed with the hotel by November 5th. Call 202-898-9000 or 1-800-228-9290 and reference the “U.S. Customs Trade Symposium.”

Dated: October 16, 2002.
Robyn Day,
Acting Director, Office of Trade Relations.

[FR Doc. 02-26672 Filed 10-18-02; 8:45 am]

BILLING CODE 4820-02-P